DEPARTMENT OF HOUSING AND URBAN DEVELOPMENT

[Docket No. FR-4637-N-01]

Notice of Annual Factors for Determining Public Housing Agency On-Going Administrative Fees for the Housing Choice Voucher Program and the Rental Certificate and Moderate Rehabilitation Programs

AGENCY: Office of the Assistant Secretary for Public and Indian Housing, HUD.

ACTION: Notice.

SUMMARY: This notice announces the monthly per unit fee amounts for use in determining the on-going administrative fee for public housing agencies (PHAs) administering the housing choice voucher program, and the rental certificate and moderate rehabilitation programs (including Single Room Occupancy and Shelter Plus Care) during Federal Fiscal Year (FY) 2001. The rental certificate program terminates at the end of FY 2001.

EFFECTIVE DATE: This notice is effective upon publication. HUD will use the procedures in this Notice to approve year-end financial statements for PHA fiscal years ending on December 31, 2000; March 31, 2001; June 30, 2001; and September 30, 2001. PHAs also must use these procedures to project earned administrative fees in the annual PHA budget. The procedures in this Notice apply to on-going administrative fees earned for that portion of the PHA fiscal year that falls in Federal FY 2001 (i.e., from October 1, 2000, to September 30, 2001).

FOR FURTHER INFORMATION CONTACT: Gerald J. Benoit, Director, Real Estate and Housing Performance Division, Office of Public and Assisted Housing Delivery, Office of Public and Indian Housing, Department of Housing and Urban Development, Room 4210, 451 Seventh Street, SW, Washington, DC 20410-8000; telephone number (202) 708-0477 (this is not a toll-free telephone number). Hearing or speech impaired individuals may access this number via TTY by calling the toll-free Federal Information Relay Service at 1-800-877-8339.

SUPPLEMENTARY INFORMATION:

I. Statutory Background

HUD pays administrative fees to PHAs for the costs of administering the housing choice voucher program and the rental certificate and moderate rehabilitation programs, including the Single Room Occupancy and Shelter Plus Care components. Section 202 of the Departments of Veterans Affairs and Housing and Urban Development, and Independent Agencies Appropriations Act, 1997 (Pub. L. 104-204, 110 Stat. 2874 and 2893 approved September 26, 1996) established the procedures for calculating these administrative fees before Federal Fiscal Year 1999. However, Section 8(q) of the United States Housing Act of 1937 (42 U.S.C. 1437f(q)), as amended by section 547 of the Quality Housing and Work Responsibility Act of 1998 (Pub. L. 105-276, 112 Stat. 2461 and 2605, approved October 21, 1998) (QHWRA) raised the on-going percentage of the “base amount” used for calculating the administrative fees for the first 600 units in a PHA's housing choice voucher program from 7.5 percent to 7.65 percent. The Department of Veterans Affairs and Housing and Urban Development and Independent Agencies FY 2001 Appropriations Act (Pub. L. 106-377, Stat. 1441, approved October 27, 2000) provides that the administrative fee authorized under section 8(q) of United States Housing Act of 1937, is the fee level in effect immediately before the enactment of the QHWRA of 1998. Before enactment of QHWRA, the on-going administrative fee percent for the first 600 units in a PHA's housing choice voucher program was 7.5 percent of the base amount.

This notice announces the methodology to be used for calculating the on-going administrative fee for PHAs administering the housing choice voucher program and the rental certificate and moderate rehabilitation programs (including Single Room Occupancy and Shelter Plus Care) during FY 2001.

A PHA's on-going administrative fee may be reduced because of PHA failure to comply with its administrative responsibilities (section 982.152(d)). For example, HUD may reduce the on-going fee if the PHA does not provide required information on program participants to the Multifamily Tenant Characteristics System as required by HUD or maintain at least a 92 percent lease-up.

II. Calculating the On-Going Monthly Administrative Fee

(a) On-going Administrative Fee. A public housing agency is paid an on-going administrative fee for each unit month for which a dwelling unit is covered by a housing assistance payments contract. Under the system for FY 2001, the on-going monthly administrative fee is:

1. 7.5 percent of the “base amount” for the first 600 units in a PHA's housing choice voucher and rental certificate programs combined, and for the first 600 units in a PHA's moderate rehabilitation program.

2. 7.0 percent of the “base amount” for each additional housing choice voucher, rental certificate, or moderate rehabilitation unit above the 600 unit, threshold.

3. 3.0 percent of the “base amount” for PHA-owned units.

(b) The Base Amount. The “Base Amount” is the higher of:

1. The FY 1993 fair market rent for a two-bedroom unit; or

2. The FY 1994 fair market rent for a two-bedroom unit, but not more than 103.5 percent of the FY 1993 fair market rent.

Note: The base amount is adjusted annually to reflect average local government wages as measured by the most recent Bureau of Labor Statistics data on local government wages (the ES-202 series).

(c) Additional Fees. PIH Notice 2000-28 (HA) (issued August 9, 2000) and PIH Notice 2000-49 (HA) (issued October 27, 2000) lists other authorized fees.

III. On-Going Fee Amounts

(a) Fee Schedule. This notice publishes the schedule of monthly per unit on-going administrative fee amounts. These on-going fee amounts shall be used by HUD and PHAs for preparation of PHA budgets and approval of fiscal year-end financial statements. The schedules are organized by the HUD-established fair market rent areas and show the monthly on-going fee amounts a PHA will earn for each unit under a housing assistance payments contract on the first day of the applicable month.

(b) Column A: Fees for Program of 600 Units or Less. The amount in column A is the monthly per unit on-going fee amount for the first 7,200 unit months in FY 2001 in a PHA's combined rental certificate and voucher programs combined (not including any PHA-owned units). The 7,200 unit month figure is determined by multiplying 600 units times 12 (the number of months in one year).

On-going fee amounts in column A are also used as the monthly per unit fee for the first 7,200 unit months in FY 2001 in a PHA's moderate rehabilitation program, including the moderate rehabilitation single room occupancy program. However, the column A amounts are not used to calculate on-going fees for any PHA-owned units.

The total column A on-going fee is computed by multiplying the number of unit months under a housing assistance payments contract in Federal FY 2001 by the monthly per unit fee amount in column A, up to the maximum number of unit months.

The maximum number of unit months for which the column A fee amount may be used depends on the PHA fiscal year end. Based on the applicable PHA fiscal year end, a PHA must use the following number of unit months to calculate its column A on-going administrative fee for FY 2001:

PHA fiscal year end | Maximum number of column A unit months
December 31, 2000 | Up to 1,800 unit months.
March 31, 2001 | Up to 3,600 unit months.
June 30, 2001 | Up to 5,400 unit months.
September 30, 2001 | Up to 7,200 unit months.

(c) Column B: On-going Fees for unit months in excess of the maximum number of the Column A Unit Months. Column B is used to determine the monthly per unit on-going fee amount for any unit months in FY 2001 in excess of the maximum number of unit months specified in the above matrix (depending on the PHA's fiscal year end). The excess unit months, based on the PHA's fiscal year end and the number of housing choice voucher, rental certificate and moderate rehabilitation (including the moderate rehabilitation single room occupancy program and the shelter plus care single room occupancy program—not including any PHA owned units) units under housing assistance payment contracts during FY 2001, are multiplied by the monthly per unit on-going fee amount in column B.

(d) Column C: Fees for PHA-Owned Units. The monthly per unit on-going fee amount in column C is used to calculate the on-going administrative fee for any PHA-owned units. For this purpose, multiply the number of unit months for PHA-owned units under housing assistance payment contracts during FY 2001. The column C amount is used for PHA-owned units assisted in the rental voucher, rental certificate, and moderate rehabilitation units. Column A and column B fee amounts are not used for PHA-owned units.

(e) Fees for Units Under Portability. The on-going fee amounts used for reimbursing receiving PHAs for all portable units (not absorbed by the receiving PHA) will be determined by using the monthly per unit on-going administrative fee amounts in column B for the PHA.

The receiving PHA administering the portable housing choice voucher receives 80 percent of the column B amount and the initial PHA receives 20 percent of the column B amount.

(f) Future year publication date. For subsequent fiscal years, HUD will publish an annual notice in the Federal Register establishing the monthly per unit fee amounts for use in determining the on-going administrative fees for PHAs operating the housing choice voucher program and moderate rehabilitation program in each metropolitan and each non-metropolitan fair market rent area for that Federal fiscal year. The annual change in the per-unit-month fee amounts will be based on changes in wage data or other objectively measurable data, as determined by HUD, that reflect the costs of administering the program.

The amounts in the schedule published in the Federal Register will not reflect the authority given to HUD to increase the fee if necessary to reflect extraordinary expenses such as the higher costs of administering small programs and programs operating over large geographic areas or expenses incurred because of difficulties some categories of families are having in finding appropriate housing. HUD will consider PHA requests for such increased administrative fees. Furthermore, the amounts will not include preliminary fees.

IV. Findings and Certifications

Paperwork Reduction Act Statement

The information collection requirements contained in this notice have been approved by the Office of Management and Budget (OMB) under the Paperwork Reduction Act of 1995 (44 U.S.C. 3501-3520), and have been assigned OMB control number 2577-0149. An agency may not conduct or sponsor, and a person is not required to respond to, a collection of information unless the collection displays a valid control number.

Environmental Impact

In accordance with 24 CFR 50.19(c)(6) of the HUD regulations, the policies and procedures contained in this notice set forth rate determinations and related external administrative requirements and procedures which do not constitute a development decision that affects the physical condition of specific project areas or building sites, and therefore are categorically excluded from the requirements of the national Environmental Policy Act.

Executive Order 13132, Federalism

Executive Order 13132 (captioned “Federalism”) prohibits, to the extent practicable and permitted by law, an agency from promulgating a regulation that has federalism implications and either imposes substantial direct compliance costs on State and local governments and is not required by statute, or preempts State law, unless the relevant requirements of section 6 of the Executive Order are met. None of the provisions in this notice will have federalism implications and they will not impose substantial direct compliance costs on State and local governments or preempt State law within the meaning of the Executive Order. As a result, the notice is not subject to review under the Order

Catalog of Federal Domestic Assistance Number

The Catalog of Federal Domestic Assistance Number for this program is 14.850.

Dated: May 29, 2001.
Gloria Cousar,
Acting General Deputy, Assistant Secretary for Public and Indian Housing.

BILLING CODE 4210-33-P

[FR Doc. 01-14537 Filed 6-8-01; 8:45 am]

BILLING CODE 4210-33-C